DEPARTMENT OF COMMERCE

Economic Development Administration

Notice of Petitions by Firms for Determination of Eligibility to Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period July 21, 2007-August 20, 2007
Firm | Address | Date accepted for filing | Products
Cape Industries | 24055 Mound Road, Warren, MI 48091 | 7/30/2007 | Gears, gearing and other screw machine products such as pinion shafts and handle stems.
Pro Street Frameworks, LLC | 101 E. Shurden Ind. Blvd., Henryetta, OK 74437 | 7/30/2007 | Motorcycle frames.
Star Precision, LLC | 7300 Miller Drive, Longmont, CO 80504 | 8/20/2007 | Fabricated metal products.
Executive Mold Corporation | 7601 Center Point 70 Blvd., Huber Heights, OH 45424 | 8/8/2007 | Molds for injection molding plastic parts.
LB Furniture Industries LLC | 99 South Third Street, Hudson, NY 12534 | 8/8/2007 | Manufacturer of wood and metal chairs and stools, that includes stackable, side, arm and upholstered chairs and stools.
Innovative Pressure Technologies | 4922 Pittsburgh Avenue, Erie, PA 16509 | 8/7/2007 | Pressure Reducing Valves, NESOI.
Young Manufacturing Corporation | 12900 Hickman Street, Waterford, CA 95386 | 8/3/2007 | Metal roof and foundation vents and parts.
G&H Decoys, Inc. | P.O. Box 1208, Henryetta, OK 74437 | 8/14/2007 | Bird decoys/hunting accessories.
New ICM, L.P. | 2200 Bishkin Road, El Campo, TX 77437 | 8/8/2007 | Manufacturer of girls dresses.
Kesemann Tool & Die, Inc. | 803 S. Main, Concordia, MO 64020 | 8/14/2007 | Moulds for plastic parts.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: August 20, 2007.
William P. Kittredge,
Program Officer for TAA.

[FR Doc. E7-16778 Filed 8-23-07; 8:45 am]

BILLING CODE 3510-24-P